DEPARTMENT OF DEFENSE

Department of the Army

Corps of Engineers: Intent To Prepare a Draft Environmental Impact Statement for Proposed Lake on Yellow Creek in Lamar County, AL (Department of Army Permit Number SAM-2005-4302-MNS)

AGENCY: Department of the Army, U.S. Army Corps of Engineers, DOD.

ACTION: Notice of Intent.

SUMMARY: The Mobile District, U.S. Army Corps of Engineers (Corps) intends to prepare a Draft Environmental Impact Statement (DEIS) to address the potential impacts associated with construction of a 2,040-acre water supply lake along Yellow Creek in Lamar County, AL. The Corps will be evaluating the proposed project under the authority of Section 404 of the Clean Water Act. The DEIS will be used as a basis for ensuring compliance with the National Environmental Policy Act (NEPA).

DATES: A public scoping meeting will be held on October 15, 2009.

ADDRESSES: The public scoping meeting will be held at the Lamar County Courthouse, Third Floor Courtroom, 44690 Highway 17, Vernon, Alabama 35592.

FOR FURTHER INFORMATION CONTACT: Questions about the proposed action, NEPA process, and the DEIS should be addressed to Mr. Michael B. Moxey, Regulatory Division, Inland Team Leader, Phone (251) 694-3771 or e-mail at michael.b.moxey@usace.army.mil, Mobile District, U.S. Army Corps of Engineers, Regulatory Division, P.O. Box 2288, Mobile, AL 36628-0001.

SUPPLEMENTARY INFORMATION: 1. The Lamar County Commission is the permit applicant. The applicant is proposing to construct a dam and 2,040 acre lake on Yellow Creek in central Lamar County, Alabama, just north of the City of Vernon. The purpose of the proposed lake is for public water supply for Lamar County and the surrounding areas. Construction of the project as proposed would require impacts to approximately 1,660 acres of wetlands and 31.2 miles of streams. The project is in the initial stages of planning.

2. Alternatives to the applicants' proposals may exist which would reduce impacts to the surrounding aquatic environment. These could include, but are not restricted to: Considering alternate site locations for the lake, alternate site layouts that may have less impact on the environment, or pursuing alternate sources of water for Lamar County and surrounding areas. The scoping and evaluation phase of the EIS process will help in the determination of reasonable alternatives to be evaluated for the project.

3. Scoping: a. The Corps invites full public participation to promote open communication on the issues surrounding the proposal. The scoping process is a key part of the public outreach and involvement phase. All Federal, State, and local agencies, and other persons or organizations that have an interest are urged to participate in the NEPA scoping process. As part of the process, a public meeting will be held to receive public input and comment which will be used to assist in the identification of significant issues associated with the proposed water supply lake. A public meeting will be held at the Lamar County Courthouse in Vernon, AL on October 15, 2009. Public meetings will also be advertised through various media outlets at least 30 days prior to the meeting date.

b. The DEIS will analyze the potential social, economic, and environmental impacts to the local area resulting from the proposed project and alternatives. Specifically, the following major issues will be analyzed in the DEIS: Hydrologic and hydraulic regimes, threatened and endangered species, fish and wildlife habitat, wetlands and stream resources, essential fish habitat, and other air quality, cultural resources, wastewater treatment capacities and discharges, drainage discharges, transportation systems, alternatives, secondary and cumulative impacts, socioeconomic impacts, environmental justice (effect on minorities and low-income groups) (Executive Order 12898), and protection of children (Executive Order 13045).

c. The Corps will serve as the lead Federal agency in the preparation of the DEIS. The Corps intends to coordinate and/or consult with an interagency team of Federal and State agencies during scoping and preparation of the DEIS. A decision will be made during the scoping process whether other agencies will serve in an official role as cooperating agencies.

4. It is anticipated that the DEIS will be made available for public review in December 2010.

Craig J. Litteken,
Chief, Regulatory Division.

[FR Doc. E9-20134 Filed 8-20-09; 8:45 am]

BILLING CODE 3720-58-P